DEPARTMENT OF TRANSPORTATION

Federal Railroad Administration

[Docket Number FRA-2020-0038]

Petition for Extension of Waiver of Compliance

Under part 211 of title 49 Code of Federal Regulations (CFR), this document provides the public notice that on December 20, 2023, and February 29, 2024, the City of San Clemente, California, (the City) and the Southern California Regional Rail Authority (Metrolink) petitioned the Federal Railroad Administration (FRA) for an extension of a waiver of compliance from certain provisions of the Federal railroad safety regulations contained at 49 CFR part 222 (Use of Locomotive Horns at Public Highway-Rail Grade Crossings). The relevant Docket Number is FRA-2020-0038.

Specifically, the City and Metrolink (Petitioners) jointly seek relief from the requirements of 49 CFR 222.59(a)(1), to continue use of a Pedestrian Audible Warning System (PAWS), which is similar to a wayside horn, when approaching seven highway-rail grade crossings, instead of a locomotive horn. Petitioners also request to extend relief from certain provisions of 49 CFR part 222, appendix E (Paragraphs 4 and 6), to allow a minimum sound level of 80 dB(A) and direction of the PAWS. The seven crossings that are the subject of this request are:

• Dije Court—USDOT Number 922847D—MP 203.95—pedestrian—3 PAWS

• El Portal—USDOT Number 922848K—MP 204.04—pedestrian—2 PAWS

• Corto Lane—USDOT Number 026977D—MP 204.56—pedestrian—3 PAWS

• Pier Service Road—USDOT Number 026997P—MP 204.73—private—4 PAWS

• T Street—USDOT Number 922849S—MP 205.16—pedestrian—3 PAWS

• Lost Winds—USDOT Number 922850L—MP 205.56—pedestrian—2 PAWS

• Calafia—USDOT Number 026637S—MP 206.00—pedestrian—2 PAWS

In support of its request, Petitioners submitted maintenance, communication, and malfunction/response plans for the PAWS.

In its February 26, 2024, addendum, Petitioners note their plans to augment the existing fencing system along “the beach trail from Mile Post 203.71 . . . to Mile Post 206.00.” They explain that the plan “is in response to the current deficiency in fencing elevation along certain portions of the trail and is intended to improve the public safety of the area.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by May 13, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-05282 Filed 3-12-24; 8:45 am]

BILLING CODE P